DEPARTMENT OF THE INTERIOR

Bureau of Reclamation

Notice of Availability of the Draft Environmental Assessment for an Interim 602(a) Storage Guideline for Management of the Colorado River

AGENCY: Bureau of Reclamation, Interior.

ACTION: Notice of availability of the Draft Environmental Assessment for an interim 602(a) storage guideline for management of the Colorado River.

SUMMARY: The Secretary of the Department of the Interior (Secretary), acting through the Bureau of Reclamation (Reclamation), is proposing the adoption of a 602(a) storage guideline that will assist the Secretary in making a determination of the quantity of water considered necessary as of September 30 of each year, as required by article II (1) of the 1970 Criteria for Coordinated Long-Range Operation of Colorado River Reservoirs (Long-Range Operating Criteria) pursuant to the Colorado River Basin Project Act of September 30, 1968. Section 602(a) of the 1968 Act requires that, under certain circumstances, storage equalization releases be made from Lake Powell to Lake Mead. The proposed 602(a) storage guideline would remain in effect through calendar year 2016.

The proposed 602(a) storage guideline is based upon information received from the Governors' representatives of the seven Colorado River Basin States (Arizona, California, Colorado, New Mexico, Nevada, Utah, and Wyoming) during the public comment period on the Colorado River Interim Surplus Criteria Draft Environmental Impact Statement. This information was published in the Federal Register on August 8, 2000 (65 FR 48531-38).

DATES: A 30-day public review period commences with the publication of this notice. Written comments on the draft EA are due by October 30, 2003 and should be submitted to the address given below.

ADDRESSES: Written comments on the draft EA and requests for copies should be addressed to Tom Ryan, Bureau of Reclamation, Upper Colorado Regional Office, 125 South State Street, Salt Lake City, Utah 84138; telephone (801) 524-3732; faxogram (801) 524-5499; e-mail: tryan@uc.usbr.gov. The draft EA is also available on Reclamation's web site at http://www.usbr.gov/uc/library/ (click on Environmental Assessment Documents).

Copies of the draft EA are also available for public review and inspection at the following locations:

• Bureau of Reclamation, Upper Colorado Regional Office, 125 South State Street, Room 7239, Salt Lake City, Utah 84138-1147.

• Bureau of Reclamation, Denver Office Library, Denver Federal Center, Building 67, Room 167, Denver, Colorado 80225-0007.

• Bureau of Reclamation, Main Interior Building, Room 7060-MIB, 1849 C Street, NW., Washington, DC 20240-0001.

SUPPLEMENTARY INFORMATION: One component of the proposal by the Governors' representatives is Section V, “Determination of 602(a) Storage in Lake Powell during the Interim Period,” and reads as follows:

During the interim period, 602(a) storage requirements determined in accordance with Article II (1) of the Criteria [Long-Range Operating Criteria] shall utilize a value of not less than 14.85 million acre-feet (elevation 3,630 feet) for Lake Powell (65 FR 48537).

Reclamation published a Federal Register notice on January 28, 2003 (68 FR 4230-31) announcing its intention to consider the adoption of a specific interim 602(a) storage guideline. Public comments were received from January 28, 2003, to March 14, 2003. Reclamation received 13 comment letters.

In accordance with the National Environmental Policy Act (NEPA) of 1969 (as amended), Reclamation has prepared a draft Environmental Assessment (EA) that analyzes the environmental impacts of adopting the interim 602(a) storage guideline. The two alternatives considered in the draft EA are the No Action Alternative and the Action Alternative. The proposed federal action (Action Alternative) is based on the proposal submitted by the Governors' representatives.

The Colorado River Basin Project Act of 1968 required the Secretary of the Interior to adopt operating criteria for the coordinated long-range operation of Colorado River reservoirs by January 1, 1970. This requirement led to adoption of the Long-Range Operating Criteria which control operation of the Colorado River reservoirs in compliance with requirements set forth in the Colorado River Compact, Colorado River Storage Project Act, Boulder Canyon Project Act, Colorado River Basin Project Act, the United States and Mexico Water Treaty, and other applicable federal laws. The purpose of the Long-Range Operating Criteria is to control the coordinated long-range operation of the storage reservoirs of the Colorado River Basin. The Long-Range Operating Criteria established the minimum objective annual release of 8.23 million acre-feet from Lake Powell. This minimum objective release ensures that the downstream delivery requirements of the Upper Division States (Colorado, New Mexico, Utah, and Wyoming) are met on an annual basis.

The Colorado River Basin Project Act of 1968 also requires the development of an annual plan of operation. Accordingly, each year, the Secretary establishes an Annual Operating Plan (AOP) for the Colorado River reservoir system. The AOP describes how Reclamation will manage the reservoirs over a 12-month period, consistent with the Long-Range Operating Criteria. In compliance with applicable federal law, Reclamation consults annually with the Colorado River Basin States, Indian tribes, and other interested parties in the development of the AOP. As part of the AOP, the Secretary makes an annual determination under the Long-Range Operating Criteria regarding the quantity of water considered necessary as of September 30 of each year to be in storage as required by Section 602(a) of the Colorado River Basin Project Act. This determination is important because when projected storage in the Upper Basin reservoirs is greater than the 602(a) storage requirement, and when storage in Lake Powell is greater than Lake Mead, releases greater than the 8.23 million acre-foot are made to maintain, as nearly as practicable, active storage in Lake Mead equal to the active storage in Lake Powell. These releases are commonly referred to as “storage equalization” releases. When projected storage is less than the 602(a) storage requirement, or Lake Powell storage is less than Lake Mead storage, annual releases from Lake Powell are limited to 8.23 million acre-feet. The proposed federal action analyzed in the draft EA could modify the volume of storage equalization releases from Glen Canyon Dam and have an affect on water storage in Lakes Powell and Mead.

The Record of Decision for the Colorado River Interim Surplus Guidelines adopted specific objective elevation levels at Lake Mead at which surplus water (i.e., amounts to satisfy consumptive use in excess of 7.5 million acre-feet) could be delivered to the Lower Division States (Arizona, California, and Nevada) from Lake Mead through the year 2016. The purpose of the proposed 602(a) storage guideline is to adopt a similar objective elevation level in Lake Powell during the time period that the Colorado River Interim Surplus Guidelines are in place. The Colorado River Interim Surplus Guidelines are applicable through 2016, and the proposed 602(a) storage guideline is proposed to remain in effect through that same period.

The need for the proposed 602(a) storage guideline arises because of the potential for additional surplus deliveries to the Lower Division States, during the period through 2016, to further draw down Lake Powell (through storage equalization releases), thus affecting Upper Basin resources such as water supply, recreation, and power generation. Just as the Interim Surplus Guidelines provide a lower limit at Lake Mead for declaration of surplus through the year 2016, the proposed 602(a) storage guideline would provide a lower limit for annual releases of water in excess of 8.23 million acre-feet from Lake Powell through the year 2016. The action is therefore needed to provide for coordinated operation of these two reservoirs on the Colorado River.

Our practice is to make comments, including names and home addresses of respondents, available for public review. Individual respondents may request that we withhold their home address from public disclosure, which we will honor to the extent allowable by law. If you wish us to withhold your name and/or address, you must state this prominently at the beginning of your comment. We will make all submissions from organizations or businesses, and from individuals identifying themselves as representatives or officials of organizations or businesses, available for public disclosure in their entirety.

NEPA Process

Public comments on the draft EA will be considered as part of the Secretary's decision in determining whether to adopt an interim 602(a) storage guideline for management of the Colorado River. Written and/or oral comments already received in response to the January 28, 2003, Federal Register notice (68 FR 4230-31) soliciting public comments and initiating a NEPA process need not be resubmitted as they have been retained and will be considered during this open comment period. Although we have used information already received in formulating the draft EA, we will address that information as well as any new comments received in our final EA, as appropriate.

FOR FURTHER INFORMATION CONTACT: Tom Ryan, Bureau of Reclamation, Upper Colorado Regional Office, 125 South State Street, Salt Lake City, Utah 84138, telephone (801) 524-3732.

Dated: September 24, 2003.
Darryl Beckmann,
Acting Regional Director—Upper Colorado Region, Bureau of Reclamation.

[FR Doc. 03-24674 Filed 9-29-03; 8:45 am]

BILLING CODE 4310-MN-P